NATIONAL SCIENCE FOUNDATION

National Artificial Intelligence Research Resource Task Force; Notice of Meeting

In accordance with the Federal Advisory Committee Act (Pub., L. 92-463, as amended), the National Science Foundation (NSF) announces the following meeting:

Name and Committee Code: National Artificial Intelligence Research Resource Task Force (84629) (Virtual).

Date and Time: October 25, 2021, 11:00 a.m. to 5:00 p.m. EDT.

Place: NSF, 2415 Eisenhower Avenue, Alexandria, VA 22314; Virtual meeting.

To attend the virtual meeting, please send your request for the virtual meeting link to the following email: cmessam@nsf.gov.

Type of Meeting: Open.

Contact Person: Brenda Williams, National Science Foundation, 2415 Eisenhower Avenue, Alexandria, VA 22314; Telephone: 703-292-8900; email: bwilliam@nsf.gov.

Purpose of Meeting: The Task Force shall investigate the feasibility and advisability of establishing and sustaining a National Artificial Intelligence Research Resource; and propose a roadmap detailing how such resource should be established and sustained.

Agenda: In this meeting, the Task Force will receive readouts from working group discussions held on the topics of governance models and compute capabilities for a National AI Research Resource, and discuss priority capabilities to incorporate into the resource, including curated data sets, educational tools, a user-interface portal, and links to testing or testbed resources. The Task Force will also discuss the challenges and possible solutions to responsibly sharing government data.

Dated: August 5, 2021.
Crystal Robinson,
Committee Management Officer.

[FR Doc. 2021-16980 Filed 8-9-21; 8:45 am]

BILLING CODE 7555-01-P